DEPARTMENT OF THE INTERIOR

Bureau of Land Management

[BLM_CA_FRN_MO 4500161985]

Notice of Intent To Prepare an Environmental Impact Statement for the Proposed Control-Silver Peak Project, Inyo and Mono Counties, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) California Desert District Office, Palm Springs, California, intends to prepare an Environmental Impact Statement (EIS) to consider the effects of the Control-Silver Peak Project (Project) and by this notice is announcing the beginning of the scoping process to solicit public comments and identify issues.

DATES: This notice initiates the public-scoping process for the EIS. The BLM requests that the public submit comments concerning the scope of the analysis, potential alternatives, and identification of relevant information, and studies by February 12, 2024. To afford the BLM the opportunity to consider comments in the draft EIS, please ensure your comments are received prior to the close of the 45-day scoping period or 15 days after the last public meeting, whichever is later.

ADDRESSES: You may submit comments related to the Control-Silver Peak project by any of the following methods:

• BLM National NEPA Register: https://bit.ly/44zSlgq.

• Email: BLM_CA_CD_TLRR_ControlSilverPeak@blm.gov.

• Mail: Control-Silver Peak Environmental Impact Statement, Bureau of Land Management California Desert District Office, 1201 Bird Center Drive, Palm Springs CA 92262.

• Fax: 760-833-7199.

Documents pertinent to this proposal may be examined online at https://bit.ly/44zSlgq, and in person at:

• BLM Bishop Field Office, 351 Pacu Lane, Suite 100, Bishop, CA 93514.

• BLM Ridgecrest Field Office, 300 S Richmond Road, Ridgecrest, CA 93555.

• BLM California Desert District Office, 1201 Bird Center Drive, Palm Springs, CA 92262.

FOR FURTHER INFORMATION CONTACT: Joan Patrovsky, Project Manager, telephone: 951-214-1775; address: Control-Silver Peak Project, BLM Desert District Office, 1201 Bird Center Drive, Palm Springs CA 92262; email: jpatrovs@blm.gov. Contact Ms. Patrovsky to have your name added to our mailing list. Individuals in the United States who are deaf, deafblind, hard of hearing, or have a speech disability may dial 711 (TTY, TDD, or TeleBraille) to access telecommunications relay services for contacting Ms. Patrovsky. Individuals outside the United States should use the relay services offered within their country to make international calls to the point-of-contact in the United States.

SUPPLEMENTARY INFORMATION:

Purpose and Need for the Proposed Action

The purpose of this Federal action is for the BLM is to respond to a right-of-way application from Southern California Edison for construction, operations, and maintenance of the Control-Silver Peak 55 kilovolt (kV) transmission line on BLM-managed lands, consistent with applicable laws, regulations, and policies. The Secretary of the Interior is authorized to grant rights-of-way on public lands for systems for generation, transmission, and distribution of electric energy (43 U.S.C. 1761(a)(4)); the need for the BLM's action is established by this delegated authority under Title V of the Federal Land Policy and Management Act of 1976.

Preliminary Proposed Action and Alternatives

Southern California Edison is proposing to update and reconfigure approximately 61 linear miles of two existing 55 kV sub-transmission lines originally designed and built in the 1930s. Collectively referred to as the Control-Silver Peak Project, the utility line spans Inyo and Mono counties and the city of Bishop, California.

The proposed project involves approximately 322 acres, of which approximately 76 acres are on BLM-managed public lands, 152 acres are on USFS-managed lands, and 94 acres are on private, State, and local government lands. Updating these transmission lines is mandated by the California Public Utilities Commission.

To address existing overhead electric line non-compliance with the California Public Utilities Commission's General Order 95 and National Electric Reliability Corporation reliability standards, Southern California Edison proposes to conduct the following activities:

• Segment 1—Control Substation to west of the city of Bishop (3.4-mile segment located on BLM-managed lands): The Control-Silver Peak `A' and `C' 55 kV sub-transmission lines are each predominately supported on single-circuit lightweight steel poles. Optical groundwire and/or all-dielectric self-supporting (ADSS) fiber optic cable (collectively referred to as telecommunication cable) would be installed on the same existing poles in Segment 1, or ADSS fiber optic cable would be installed underground. All infrastructure installed in Segment 1 would be located within an existing right-of-way. At Control Substation, system protection and telecommunications-associated equipment would be installed.

• Segment 2—west of the city of Bishop to northwest of the city of Bishop (1.4-mile segment not located on Federal lands): Each sub-transmission line in Segment 2 would be rebuilt within the existing rights-of-way. The rebuilt 55 kV sub-transmission lines would utilize two existing single-circuit tubular steel poles (TSPs) and new single-circuit wood pole-equivalent poles. Approximately 25 single-circuit wood pole-equivalents would be installed, two existing single-circuited tubular steel poles would be modified, 49 existing poles would be removed, conductor lines would be replaced along both pole lines, and overhead groundwire and optical groundwire would be installed on one of the two pole lines.

• Segment 3—northwest of the city of Bishop to the California-Nevada border (37.2-mile segment located on both BLM- and USFS-managed lands): The existing sub-transmission poles along the two 55 kV transmission routes would be replaced by one double-circuit sub-transmission line within portions of each of the two existing rights-of-way and within a new right-of-way. The new 55 kV sub-transmission infrastructure would include double-circuit TSPs, double-circuit wood pole-equivalents, and single-circuit H-frames. Optical groundwire would be installed along the length of Segment 3. Approximately 529 double-circuit wood pole-equivalents would be installed; 137 double-circuit TSPs would be installed; 8 single-circuit TSP H-frames would be installed; 1,508 existing structures would be removed; and conductors would be replaced. Optical groundwire and/or fiber optic cable would be installed, as well as system protection and telecommunications-associated equipment at White Mountain Substation and the Fish Lake Valley Metering Station.

• Segment 4—Chalfant Valley between the city of Bishop and the community of Hammil (16-mile segment located in part on BLM-managed lands): Segment 4 consists of the Zack Tap portion of the Control-Silver Peak `C' 55 kV sub-transmission line. All infrastructure installed in Segment 4 would be located within an existing right-of-way. Approximately two single-circuit wood pole-equivalents would be installed, two existing single-circuit wood poles would be removed, and existing sub-transmission and distribution conductors would be transferred to the replacement poles.

• Segment 5—Deep Springs Valley (2.4-mile segment located in part on BLM lands): Segment 5 consists of the Deep Spring Tap portion of the Control-Silver Peak `A' 55 kV sub-transmission line. One replacement pole would be located in a new Federal right-of-way; the remaining infrastructure installed in Segment 5 would be located within an existing easement. Approximately eight single-circuit wood pole-equivalents would be installed, eight existing single-circuit wood pole-equivalents would be removed, and the existing sub-transmission conductor would be transferred to the replacement wood pole-equivalents.

A range of reasonable alternatives will be developed and analyzed in the EIS after considering information received during the scoping period. Preliminary action alternatives include a realignment of the line via California State Highway 6 and Nevada State Highway 264. The range of reasonable alternatives will include a no action alternative. Under the no action alternative, the BLM and the USFS would deny the application, and the Control Silver Peak line would remain as existing with ongoing maintenance activities as needed. The BLM welcomes comments on all preliminary alternatives as well as suggestions for additional alternatives; please indicate the purpose of any suggested alternative.

Summary of Expected Impacts

Preliminary issues for the Project, either beneficial or adverse and of varying intensity, have been identified by BLM personnel and in consultation with Federal, State, and local agencies; Tribes; and Cooperating Agencies. These preliminary issues include potential impacts to:

• Special status wildlife and vegetation species;

• Visual resources;

• Cultural resources; and

• Areas of Critical Environmental Concern

The public scoping process will guide determination of relevant issues that will influence the scope of the environmental analysis, including alternatives and mitigation measures. The EIS will identify and describe the effects of the Proposed Action on the human environment. The BLM also requests the identification of potential impacts that should be analyzed. Impacts should be a result of the action; therefore, please identify the activity along with the potential impact.

Anticipated Permits and Authorizations

If approved, the BLM would issue a right-of-way grant for BLM-managed lands, and the USFS would amend the existing transmission easement for the Control Silver Peak 55 kV transmission line for USFS-managed lands. Other Federal, State, and local authorizations will be required for the Project. These could include authorizations under the Bald and Golden Eagle Protection Act, the Endangered Species Act, the Clean Water Act, 14 CFR part 77, and other laws and regulations determined to be applicable to the Project.

Schedule for the Decision-Making Process

The BLM will provide additional opportunities for public participation consistent with the NEPA process, including a 45-day comment period on the draft EIS. The draft EIS is anticipated to be available for public review late summer 2024; the final EIS is anticipated to be released in fall 2025 and the Record of Decision in winter 2025/2026.

Public Scoping Process

This notice initiates the scoping period.

The BLM will be holding two public scoping meetings and one virtual meeting. The in-person public meetings will be held at the BLM Bishop Field Office—USFS Inyo National Forest Office in Bishop, CA. The specific dates and times of the in-person and virtual scoping meetings will be announced at least 15 days in advance through local media, a news release, social media, and the BLM National NEPA Register (see ADDRESSES). Participants must register in advance to attend the virtual scoping meeting.

The date(s) and location(s) of any additional scoping meetings will be announced in advance through local media, a BLM-California news release, social media, and the BLM National NEPA Register (see ADDRESSES).

Lead and Cooperating Agencies

The BLM is the lead Federal agency for this EIS and the related National Historic Preservation Act Section 106 process. The following have agreed to participate in the environmental analysis of the Project as Cooperating Agencies: USFS Inyo National Forest, Inyo County, the Los Angeles Department of Water and Power, the United States Fish and Wildlife Service, and the United States Environmental Protection Agency. Additional Federal, State, and local agencies; Tribes; and eligible stakeholders interested in the scoping process may request or be requested by the BLM to participate in the development of the EIS as a Cooperating Agency.

Responsible Official

The BLM California State Director is the responsible official who will make the decisions below.

Nature of Decisions To Be Made

The BLM will use the analysis in the EIS to inform the following: whether to grant, grant with conditions, or deny the application for a right-of-way. Pursuant to 43 CFR 2805.10, if the BLM issues a grant, the BLM decision maker may include terms, conditions, and stipulations determined to be in the public interest.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The BLM will utilize and coordinate the NEPA process to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed project will assist the BLM in identifying and evaluating impacts to such resources.

The BLM will consult with Indian Tribal Nations on a government-to-government basis in accordance with Executive Order 13175, BLM Manual Section 1780, and other Departmental policies. Tribal concerns, including impacts on Indian trust assets and potential impacts to cultural resources, will be given due consideration. Indian Tribal Nations that may be interested in or affected by the proposed Project are invited to participate in the scoping process and may request or be requested by the BLM to participate in the development of the environmental analysis as a cooperating agency. The BLM has sent invitations to potentially affected Tribal Nations and initiated government-to-government consultation meetings and intends to continue coordination throughout the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Karen E. Mouritsen,
Bureau of Land Management, California State Director.

[FR Doc. 2023-28746 Filed 12-28-23; 8:45 am]

BILLING CODE 4331-15-P